DEPARTMENT OF VETERANS AFFAIRS

Genomic Medicine Program Advisory Committee; Notice of Meeting

The Department of Veterans Affairs (VA) gives notice under Public Law 92-463 (Federal Advisory Committee Act) that the Genomic Medicine Program Advisory Committee will meet on May 20, 2011, at the St. Regis Hotel, 923, 16th and K Streets NW., Washington, DC. The meeting will convene at 9 a.m. and adjourn at 5 p.m. The meeting is open to the public.

The purpose of the Committee is to provide advice and make recommendations to the Secretary of Veterans Affairs on using genetic information to optimize medical care of Veterans and to enhance development of tests and treatments for diseases particularly relevant to Veterans.

The Committee will receive program updates and will be asked to continue to provide insight into optimal ways for VA to incorporate genomic information into its health care program while applying appropriate ethical oversight and protecting the privacy of Veterans. The meeting focus will be on current and upcoming genome sequencing technologies, their implications for data computation, analytics, and data storage. The Committee will begin to explore the potential impact of whole genome data on clinical decision making. The meeting will also receive an update on the status of the newly launched Million Veteran Program. The Committee will receive public comments at 3:15 p.m. Comments are limited to 5 minutes each. Individuals who speak are invited to submit a 1-2 page summary of their comments for inclusion in the official meeting record. Members of the public may also submit written statements for the Committee's review to Dr. Sumitra Muralidhar, Designated Federal Officer, Department of Veterans Affairs, 810 Vermont Avenue, NW., Washington, DC 20420, or e-mail at Sumitra.muralidhar@va.gov. Any member of the public wishing to attend or seeking additional information should contact Dr. Muralidhar at (202) 443-1686.

Dated: April 26, 2011.
By Direction of the Secretary.
William F. Russo,
Director of Regulations Management, Office of the General Counsel.

[FR Doc. 2011-10483 Filed 4-29-11; 8:45 am]

BILLING CODE P